FEDERAL COMMUNICATIONS COMMISSION

47 CFR Part 73

[DA 03-1226; MB Docket No. 03-27, RM-10631]

Radio Broadcasting Services; Cotulla and Dilley, TX

AGENCY: Federal Communications Commission.

ACTION: Final rule.

SUMMARY: The Audio Division, at the request of IH-35 Broadcasters, allots Channel 264A to Cotulla, Texas, as the community's third local FM service. In order to accommodate the allotment at Cotulla, the Audio Division substitutes Channel 229A for vacant Channel 264A at Dilley, Texas. See 68 FR 7963, February 19, 2003. Channel 264A can be allotted to Cotulla, Texas, consistent with the minimum distance separation requirement of the Commission's rules at city reference coordinates. The reference coordinates for Channel 264A at Cotulla are 28-26-12 north latitude and 99-14-05 west longitude. Although concurrence has been requested for Channel 264A at Cotulla, notification has not been received. If a construction permit is granted prior to the receipt of formal concurrence in the allotment by the Mexican government, the construction permit will include the following condition: “Operation with the facilities specified for Cotulla herein is subject to modification, suspension or, termination without right to hearing, if found by the Commission to be necessary in order to conform to the 1992 USA-Mexico FM Broadcast Agreement.” Additionally, Channel 229A can be allotted to Dilley, Texas, consistent with the minimum distance separation requirements of the Commission's rules, provided there is a site restriction 6.3 kilometers (3.9 miles) south of the community. The reference coordinates for Channel 229A at Dilley are 28-36-56 north latitude and 99-10-48 west longitude.

Although concurrence has been requested for Channel 229A at Dilley, notification has not been received. If a construction permit is granted prior to the receipt of formal concurrence in the allotment by the Mexican government, the construction permit will include the following condition: “Operation with the facilities specified for Dilley herein is subject to modification, suspension or, termination without right to hearing, if found by the Commission to be necessary in order to conform to the 1992 USA-Mexico FM Broadcast Agreement.” A filing window for Channel 264A at Cotulla, Texas and Channel 229A at Dilley, Texas, will not be opened at this time. Instead, the issue of opening a filing window for these channels will be addressed by the Commission in a subsequent order.

DATES: Effective June 16, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's report and order, MB Docket No. 03-27, adopted April 28, 2003, and released April 30, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Channel 264A at Cotulla, by removing Channel 264A and by adding Channel 229A at Dilley.

Federal Communications Commission.
John A. Karousos,
Assistant Chief, Audio Division, Media Bureau.

[FR Doc. 03-12966 Filed 5-22-03; 8:45 am]

BILLING CODE 6712-01-P